DEPARTMENT OF THE TREASURY

United States Mint

Establish Prices for 2025 United States Mint Gold Products Agency: United States Mint, Department of the Treasury

ACTION: Notice.

SUMMARY: The United States Mint is announcing an update to our Numismatic Pricing Grid to include the 25TH Anniversary Sacagawea Golden Dollar 24K One Half-Ounce Gold Proof Coin and Comic Arts One Half- Ounce Gold Coin.

An excerpt of the appears below:

The complete 2025 Pricing of Numismatic Gold, Commemorative Gold, and Platinum Products Grid will be available at https://www.usmint.gov/resources/product-pricing.

Pricing can vary weekly dependent upon the London Bullion Market Association (LBMA) gold price weekly average. The pricing for all United States Mint numismatic gold, platinum, and palladium products is evaluated every Wednesday and modified as necessary.

FOR FURTHER INFORMATION CONTACT: Rosa Williams and Kai Washington; United States Mint; 801 9th Street NW, Washington, DC 20220, or call (202) 354-7594; (202) 354-7662.

(Authority: 31 U.S.C. 5111, 5112, & 9701.)

Eric Anderson,
Executive Secretary, United States Mint.

[FR Doc. 2025-12255 Filed 6-30-25; 8:45 am]

BILLING CODE 4810-37-P